DEPARTMENT OF THE TREASURY

Submission for OMB Review; Comment Request

January 11, 2010.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 18, 2010 to be assured of consideration.

Alcohol and Tobacco Tax and Trade Bureau (TTB)

OMB Number: 1513-0016.

Type of Review: Extension.

Title: Drawback on Wines Exported.

Form: TTB F 5120.24.

Description: Exporters of wines that were produced, packaged, manufactured, or bottled in the U.S. may file a claim for drawback of the taxes that have been paid or determined on the wine. This form enables TTB to protect the revenue and prevent fraudulent claims.

Respondents: Businesses or other for-profits.

Estimated Total Burden Hours: 94 hours.

OMB Number: 1513-0031.

Type of Review: Revision.

Title: Specific and Continuing Transportation Bond—Distilled Spirits or Wines Withdrawn for Transportation to Manufacturing Bonded Warehouse—Class Six.

Form: TTB F 5100.12, TTB F 5110.67.

Description: TTB F 5100.12 and TTB F 5110.67 are specific bonds that protect the tax revenue on distilled spirits and wine while in transit from one type of bonded facility to another. They identify the shipment, the parties, the date, and the amount of bond coverage.

Respondents: Businesses or other for-profits.

Estimated Total Burden Hours: 10 hours.

OMB Number: 1513-0123.

Type of Review: Extension.

Title: Application, Permit, and Report—Wine and Beer (Puerto Rico) and Application, Permit and Report—Distilled Spirits Products (Puerto Rico).

Form: 5100.21, TTB F 5100.21.

Description: TTB Form 5100.21 is a permit to compute the tax on, tax pay, and withdraw shipments of wine or beer from Puerto Rico to the United States, as substantively required by 27 CFR 26.93. TTB Form 5110.51 is a permit to compute the tax on, tax pay, and withdraw shipments of distilled spirits products from Puerto Rico to the United States, as substantively required by 27 CFR 26.78.

Respondents: Businesses or other for-profits.

Estimated Total Burden Hours: 6 hours.

Clearance Officer: Frank Foote (202) 927-9347, Alcohol and Tobacco Tax and Trade Bureau, Room 200 East, 1310 G Street, NW., Washington, DC 20005.

OMB Reviewer: Shagufta Ahmed (202) 395-7873, Office of Management and Budget, Room 10235, New Executive Office Building, Washington, DC 20503.

Celina Elphage,
Treasury PRA Clearance Officer.

[FR Doc. 2010-766 Filed 1-15-10; 8:45 am]

BILLING CODE 4810-31-P